FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than November 20, 2024.

A. Federal Reserve Bank of St. Louis (Holly A. Rieser, Senior Manager) P.O. Box 442, St. Louis, Missouri 63166-2034. Comments can also be sent electronically to Comments.applications@stls.frb.org:

1. Phyllis Hofmeister, Robert Hofmeister, William Hofmeister, and Norma Hofmeister, all of Quincy, Illinois; Kurt Hofmeister, Vero Beach, Florida; Jon Hofmeister, Warsaw, Illinois; and Jane Wiley, Bruce Wiley, Elizabeth Wiley, and Carson Wiley, all of Indianapolis, Indiana; to establish the Hofmeister Family Control Group, a group acting in concert, to retain voting shares of First Bankers Trustshares, Inc., and thereby indirectly retain voting shares of First Bankers Trust Company, National Association, both of Quincy, Illinois. In addition, Robert Hofmeister to acquire additional voting shares of First Bankers Trustshares, Inc.

B. Federal Reserve Bank of Minneapolis (Mark Rauzi, Vice President) 90 Hennepin Avenue, Minneapolis, Minnesota 55480-0291. Comments can also be sent electronically to MA@mpls.frb.org:

1. Gigi Otten, Hayward, Minnesota; and the James and Renata MacAlpine Trust, James MacAlpine and Renata MacAlpine as trustees, all of Ord, Nebraska; to join the Otten Family Shareholder Control Group (Otten Group), a group acting in concert, to retain voting shares of Minnesota Community Bancshares, Inc. (MCBI), Albert Lea, Minnesota, and thereby indirectly retain voting shares of Arcadian Bank, Hartland, Minnesota. In addition, the William E. Brush & Bettina A. Brush Trust, William Brush as trustee, both of North Loup, Nebraska; and the Harold C. Kermes Trust dated February 4, 2022, Harold Kermes as trustee, both of Hayward, Minnesota, to join the Otten Group, to acquire voting shares of MCBI, and thereby indirectly acquire voting shares of Arcadian Bank.

Board of Governors of the Federal Reserve System.
Erin Cayce,
Assistant Secretary of the Board.

[FR Doc. 2024-25709 Filed 11-4-24; 8:45 am]

BILLING CODE 6210-01-P